DEPARTMENT OF THE TREASURY

Submission for OMB Review; Comment Request

May 3, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 8, 2007 to be assured of consideration.

Internal Revenue Service (IRS)

OMB Number: 1545-1226.

Type of Review: Extension.

Title: FI-59-89 (Final) Proceeds of Bonds used for Reimbursement.

Description: The rule requires record maintenance by a state or local government or section 501(c)(3) organization issuing tax-exempt bonds (“Issuer”) to reimburse itself for previously-paid expenses. This recordkeeping will establish that the issuer had an intent, when it paid an expense, to later issue a reimbursement bond.

Respondents: State, local, or tribal governments.

Estimated Total Burden Hours: 6,000 hours.

OMB Number: 1545-1708.

Type of Review: Extension.

Title: Publication 1345, Handbook for Authorized IRS e-file Providers.

Description: Publication 1345 informs those who participate in the IRS e-file Program for Individual Income Tax Returns of their obligations to the Internal Revenue Service, taxpayers, and other participants.

Respondents: Businesses and other for-profit institutions.

Estimated Total Burden Hours: 3,636,463 hours.

OMB Number: 1545-1734.

Type of Review: Extension.

Title: Terminal Operator Report.

Form: 720-TO.

Description: Representatives of the motor fuel industry, state governments, and the Federal government are working to ensure compliance with excise taxes on motor fuels. This joint effort has resulted in a system to track the movement of all products to and from terminals. Form 720-TO is an information return that will be used by terminal operators to report their monthly receipts and disbursements of products.

Respondents: Businesses or other for-profit institutions.

Estimated Total Burden Hours: 2,347,020 hours.

OMB Number: 1545-1296.

Type of Review: Extension.

Title: PS-27-91 (Final) Procedural Rules for Excise Taxes Currently Reportable on Form 720, PS-8-95 (Final) Deposits of Excise Taxes.

Description: Section 6302(c) authorizes the use of Government depositaries. These regulations provide reporting and recordkeeping rules relating to the use of Government depositaries for taxes imposed by chapter 33 of the Code.

Respondents: Business and other for-profit institutions.

Estimated Total Burden Hours: 242,350 hours.

OMB Number: 1545-1850.

Type of Review: Extension.

Title: REG-105885-99 (Final), Compensation Deferred Under Eligible Deferred Compensation Plans.

Description: REG-105885-99 provides guidance regarding the trust requirements for certain eligible deferred compensation plans enacted in the Small Business Job Protection Act of 1996.

Respondents: State, Local, and Tribal Governments.

Estimated Total Burden Hours: 10,600 hours.

OMB Number: 1545-1461.

Type of Review: Extension.

Title: INTL-24-94 (Final) Taxpayer Identifying Numbers (TINs).

Description: This regulation relates to requirements for furnishing a taxpayer identifying number on returns, statements, or other documents. Procedures are provided for requesting a taxpayer identifying number for certain alien individuals for whom a social security number is not available. The regulation also requires foreign persons to furnish a taxpayer identifying number on their tax returns.

Respondents: Individuals or households.

Estimated Total Burden Hours: 1 hours.

OMB Number: 1545-1117.

Type of Review: Extension.

Title: Notice 89-61, Imported Substances; Rules for Filing a Petition.

Description: The notice sets forth procedures to be followed in petitioning the Secretary to modify the list of taxable substances in section 4672(a)(3).

Respondents: Businesses or other for-profit institutions.

Estimated Total Burden Hours: 100 hours.

OMB Number: 1545-0041.

Type of Review: Extension.

Title: Corporation Dissolution or Liquidation.

Form: 966.

Description: Form 966 is filed by a corporation whose shareholders have agreed to liquidate the corporation. As a result of the liquidation, the shareholders receive the property of the corporation in exchange for their stock. The IRS uses Form 966 to determine if the liquidation election was properly made and if any taxes are due on the transfers of property.

Respondents: Businesses or other for-profit institutions.

Estimated Total Burden Hours: 159,120 hours.

OMB Number: 1545-1595.

Type of Review: Extension.

Title: Revenue Procedure 98-25, Automatic Data Processing.

Description: Processing System (ADP). If machine-sensible records are lost, stolen, destroyed, or materially inaccurate, the Rev. Proc. requires that a taxpayer promptly notify its District Director and submit a plan to replace the affected records. The District Director will notify the taxpayer of any objection(s) to the taxpayer's plan.

Respondents: Businesses or other for-profit institutions.

Estimated Total Burden Hours: 120,000 hours.

OMB Number: 1545-2040.

Type of Review: Extension.

Title: Revenue Procedure Granting Automatic Consent to change certain elections relating to the apportionment of interest expense and research and experimental expenditures.

Description: This revenue procedure provides the administrative procedure under which a taxpayer may obtain automatic consent to change (a) from the fair market value method under § 1.861-8T(c)(2) or from the alternative tax book value method under § 1.861-9(i)(1) to apportion interest expense or (b) from the sales method or the optional gross income methods under § 1.861-17(c) and (d) to apportion research and experimental expenditures. The reporting and recordkeeping requirements imposed by this revenue procedure will enable the IRS to identify eligibility to use the procedure and the years for which the new method or methods is being adopted.

Respondents: Businesses or other for-profit institutions.

Estimated Total Burden Hours: 100 hours.

OMB Number: 1545-0908.

Type of Review: Revision.

Title: Form 8282, Donee Information Return (Sale, Exchange or Other Disposition of Donated Property); Form 8283, Noncash Charitable Contributions.

Form: 8282, 8283.

Description: Internal Revenue Code section 170(a)(1) and regulation section 1.170A-13(c) require donors of property valued over $5,000 to file certain information with their tax return in order to receive the charitable contribution deduction. Form 8283 is used to report the required information. Code section 6050L requires donee organizations to file an information return with the IRS if they dispose of the property received within two years. Form 8282 is used for this purpose.

Respondents: Individuals or households.

Estimated Total Burden Hours: 7,805,692 hours.

OMB Number: 1545-1733.

Type of Review: Extension.

Title: Carrier Summary Report.

Form: 720-CS.

Description: Representatives of the motor fuel industry, state governments, and the Federal government are working to ensure compliance with excise taxes on motor fuels. This joint effort has resulted in a system to track the movement of all products to and from terminals. Form 720-CS is an information return that will be used by carriers to report their monthly deliveries and receipts of products to and from terminals.

Respondents: Businesses and other for-profit institutions.

Estimated Total Burden Hours: 183,027 hours.

OMB Number: 1545-0704.

Type of Review: Revision.

Title: Information Return of U.S. Persons with Respect To Certain Foreign Corporations.

Form: 5471.

Description: Form 5471 and related schedules are used by U.S. persons that have an interest in a foreign corporation. The form is used to report income from the foreign corporation. The form and schedules are used to satisfy the reporting requirements of sections 6035, 6038 and 6046 and the regulations thereunder pertaining to the involvement of U.S. persons with certain foreign corporations.

Respondents: Businesses or other for-profit institutions.

Estimated Total Burden Hours: 4,045,343 hours.

OMB Number: 1545-1736.

Type of Review: Extension.

Title: Revenue Procedure 2001-24, Advanced Insurance Commissions.

Description: Insurance companies that want to obtain automatic consent to change their method of accounting for cash advances that qualify as loans to their agents must attach a statement to their federal income tax return.

Respondents: Businesses and other for-profit institutions.

Estimated Total Burden Hours: 1,318 hours.

OMB Number: 1545-1872.

Type of Review: Extension.

Title: Request for Transcript of Tax Return.

Form: 4506-T.

Description: 26 U.S.C. 7513 allows for taxpayers to request a copy of a tax return or return information. Form 4506-T is used by a taxpayer to request a copy of a Federal Tax information, other than a return. The information provided will be used to search the taxpayer's account and provide the requested information; and to ensure that the requester is the taxpayer or someone authorized by the taxpayer.

Respondents: Individuals or households.

Estimated Total Burden Hours: 555,600 hours.

OMB Number: 1545-1578.

Type of Review: Extension.

Title: REG-106542-98 (Final), Election to Treat Trust as Part of an Estate.

Description: REG-106542-98 and Rev. Proc. 98-13 relate to an election to have certain revocable trusts treated and taxed as part of an estate, and provides the procedures and requirements for making the section 645 election.

Respondents: Individuals or households.

Estimated Total Burden Hours: 5,000 hour.

OMB Number: 1545-1577.

Type of Review: Extension.

Title: REG-109704-97 (NPRM) HIPAA Mental Health Parity Act; (Temporary) Interim Rules for Mental Health Parity.

Description: The regulations provide guidance for group health plans with mental health benefits about requirements relating to parity in the dollar limits imposed on mental health benefits and medical/surgical benefits.

Respondents: Businesses or other for-profit institutions.

Estimated Total Burden Hours: 3,280 hours.

OMB Number: 1545-1873.

Type of Review: Extension.

Title: Revenue Procedure 2004-15, Waivers of Minimum Funding Standards.

Description: This revenue procedure describes the process for obtaining a waiver from the minimum funding standards set forth in section 412 of the Code.

Respondents: Businesses or other for-profit institutions.

Estimated Total Burden Hours: 4,730 hours.

OMB Number: 1545-2043.

Type of Review: Extension.

Title: Form 8879-B, IRS e-file Signature Authorization for Form 1065-B.

Form: 8879-B.

Description: Tax year 2006 is the first year that filers of Form 1065-B (electing large partnerships) can file electronically. Form 8879-B is used when a personal identification number (PIN) will be used to electronically sign the electronic tax return, and, if applicable, consent to an electronic funds withdrawal.

Respondents: Businesses or other for-profit institutions.

Estimated Total Burden Hours: 258 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E7-8881 Filed 5-8-07; 8:45 am]

BILLING CODE 4830-01-P